NUCLEAR REGULATORY COMMISSION

[NRC-2009-0384]

Draft Regulatory Guide: Issuance, Availability

AGENCY: Nuclear Regulatory Commission.

ACTION: Notice of Issuance and Availability of Draft Regulatory Guide, DG-1150, Qualification of Continuous Duty Safety-Related Motors for Nuclear Power Plants.

FOR FURTHER INFORMATION CONTACT: Satish Aggarwal, U.S. Nuclear Regulatory Commission, Washington, DC 20555-0001, telephone: (301) 251-7627, e-mail: Satish.Aggarwal@nrc.gov, or R.A. Jervey, telephone: (301) 251-7404, e-mail: raj@nrc.gov

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Qualification of Continuous Duty Safety-Related Motors for Nuclear Power Plants,” is temporarily identified by its task number, DG-1150, which should be mentioned in all related correspondence. DG-1150 is proposed Revision 1 of Regulatory Guide 1.40, dated March 1973.

This regulatory guide describes a method that the staff of the NRC deems acceptable for complying with the Commission's regulations for qualification of continuous duty safety-related motors for nuclear power plants.

The Commission's regulations in Title 10, Part 50, “Domestic Licensing of Production and Utilization Facilities,” of the Code of Federal Regulations (10 CFR part 50), require that structures, systems, and components in a nuclear power plant that are important to safety be designed to accommodate the effects of environmental conditions (i.e., they must remain functional under postulated design-basis events). Toward that end, General Design Criteria 1, 2, 4, and 23 of Appendix A, “General Design Criteria for Nuclear Power Plants,” to 10 CFR part 50 contain the general requirements. Augmenting those general requirements are the specific requirements pertaining to qualification of certain electrical equipment important to safety that appear in 10 CFR 50.49, “Environmental Qualification of Electric Equipment Important to Safety for Nuclear Power Plants.” In addition, Criterion III, “Design Control,” of Appendix B, “Quality Assurance Criteria for Nuclear Power Plants and Fuel Reprocessing Plants,” to 10 CFR part 50, requires that test programs, when used to verify the adequacy of a specific design feature, should include suitable qualification testing of a prototype unit under the most adverse design conditions.

II. Further Information

The NRC staff is soliciting comments on DG-1150. Comments may be accompanied by relevant information or supporting data and should mention DG-1150 in the subject line. Comments submitted in writing or in electronic form will be made available to the public in their entirety through the NRC's Agencywide Documents Access and Management System (ADAMS). Requests for technical information about DG-1150 may be directed to the NRC contact, Satish Aggarwal at (301) 251-7627 or e-mail to Satish.Aggarwal@nrc.gov.

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2009-0384]. Address questions about NRC dockets to Carol Gallagher, 301-492-3668; e-mail Carol.Gallagher@nrc.gov.

3. Fax comments to: Rulemaking and Directives Branch, Office of Administration, U.S. Nuclear Regulatory Commission at (301) 492-3446.

Comments would be most helpful if received by October 30, 2009. Comments received after that date will be considered if it is practical to do so, but the NRC is able to ensure consideration only for comments received on or before this date. Although a time limit is given, comments and suggestions in connection with items for inclusion in guides currently being developed or improvements in all published guides are encouraged at any time.

Electronic copies of DG-1150 are available through the NRC's public Web site under Draft Regulatory Guides in the “Regulatory Guides” collection of the NRC's Electronic Reading Room at http://www.nrc.gov/reading-rm/doc-collections/. Electronic copies are also available in ADAMS (http://www.nrc.gov/reading-rm/adams.html ), under Accession No. ML091200454.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 24 day of August 2009.
For the Nuclear Regulatory Commission.
Andrea D. Valentin,
Chief, Regulatory Guide Development Branch, Division of Engineering, Office of Nuclear Regulatory Research.

[FR Doc. E9-21279 Filed 9-2-09; 8:45 am]

BILLING CODE 7590-01-P